DEPARTMENT OF COMMERCE

National Oceanic and Atmospheric Administration

RIN 0648-XD756

Endangered and Threatened Species; 5-Year Reviews for 28 Listed Species of Pacific Salmon, Steelhead, and Eulachon

AGENCY: National Marine Fisheries Service (NMFS), National Oceanic and Atmospheric Administration (NOAA), Commerce.

ACTION: Notice of availability.

SUMMARY: NMFS' West Coast Region announces the availability of 5-year reviews for 17 evolutionarily significant units (ESUs) of Pacific salmon (Oncorhynchus sp.), 10 distinct population segments (DPSs) of steelhead (O. mykiss), and the southern DPS of eulachon (Thaleichthys pacificus) as required by the Endangered Species Act of 1973, as amended (ESA). The purpose of the reviews was to evaluate whether the listing classifications of these species remains accurate or should be changed. After reviewing the best available scientific and commercial data, we conclude that no changes in the ESA-listing status for the 27 salmonid ESUs and DPSs, or the southern DPS of eulachon, are warranted at this time.

ADDRESSES: Additional information about the 5-year reviews may be obtained by visiting the NMFS West Coast Region's Web site: http://www.westcoast.fisheries.noaa.gov, or by writing to us at: NMFS West Coast Region, Protected Resources Division, 1201 Lloyd Blvd., Suite 1100, Portland, OR 97232.

FOR FURTHER INFORMATION CONTACT: Dr. Scott Rumsey at the above address, by phone at (503) 872-2791, or by email at scott.rumsey@noaa.gov.

SUPPLEMENTARY INFORMATION:

Background

Section 4(c)(2)(A) of the ESA requires that we conduct a review of listed species at least once every 5 years. On the basis of such reviews under section 4(c)(2)(B), we determine whether any species should be removed from the list (delisted), or reclassified from endangered to threatened or from threatened to endangered. During 5-year reviews, we consider the best scientific and commercial data available, including new information that has become available since the last listing determination or most recent status review of a species.

On February 6, 2015, the NMFS West Coast Region announced initiation of 5-year reviews of all 28 ESA-listed Pacific salmon ESUs and steelhead DPSs, the southern DPS of eulachon, and three DPSs of Puget Sound rockfishes (Sebastes spp.) (80 FR 6695). Both ESUs and DPSs are treated as `species' under the ESA. At the time of our announcement, we requested information on species viability, threats to the species, and protective efforts, from the public, concerned governmental agencies, Tribes, the scientific community, environmental entities, and other interested parties.

This notice addresses the following ESUs and DPSs: (1) Sacramento River winter-run Chinook salmon ESU; (2) Upper Columbia River spring-run Chinook salmon ESU; (3) Snake River spring/summer-run Chinook salmon ESU; (4) Central Valley spring-run Chinook salmon ESU; (5) California Coastal Chinook salmon ESU; (6) Puget Sound Chinook salmon ESU; (7) Lower Columbia River Chinook salmon ESU; (8) Upper Willamette River Chinook salmon ESU; (9) Hood Canal summer-run chum salmon ESU; (10) Columbia River chum salmon ESU; (11) Central California Coast coho salmon ESU; (12) Southern Oregon/Northern California Coast coho salmon ESU; (13) Lower Columbia River coho salmon ESU; (14) Oregon Coast coho salmon ESU; (15) Snake River sockeye salmon ESU; (16) Ozette Lake sockeye salmon ESU; (17) Southern California steelhead DPS; (18) Upper Columbia River steelhead DPS; (19) Middle Columbia River steelhead DPS; (20) Snake River Basin steelhead DPS; (21) Lower Columbia River steelhead DPS; (22) Upper Willamette River steelhead DPS; (23) South-Central California Coast steelhead DPS; (24) Central California Coast steelhead DPS; (25) Northern California steelhead DPS; (26) California Central Valley steelhead DPS; (27) Puget Sound steelhead DPS; and (28) the southern DPS of eulachon.

On January 16, 2015, we received a petition from the Chinook Futures Coalition to delist the Snake River fall-run Chinook ESU under the ESA. On April 22, 2015, we published a positive 90-day finding (80 FR 22468) that the petition presented substantial scientific or commercial information indicating that the petitioned action may be warranted, and we announced the initiation of a status review. While the Snake River fall-run Chinook salmon ESU was included as part of our 5-year reviews of West Coast salmon and steelhead, the results of our review of Snake River fall-run Chinook salmon and our finding on the delisting petition are addressed in a separate notice in this issue of the Federal Register. The 5-year review findings for the three Puget Sound/Georgia Basin DPSs of yelloweye rockfish, canary rockfish, and bocaccio rockfish will be announced separately on our Web site: http://www.westcoast.fisheries.noaa.gov.

We used a multi-step process to complete the subject 5-year review. First, we asked scientists from NMFS' Northwest and Southwest Fisheries Science Centers to collect and analyze new information about species viability. To evaluate species viability, our scientists evaluate four criteria—abundance, productivity, spatial structure, and diversity. They also considered new genetic and biogeographic information regarding species' ranges. At the end of this process, the Northwest and Southwest Fisheries Science Centers prepared two reports detailing the results of their analyses.

Next, biologists from the NMFS West Coast Region with expertise in salmonid hatchery management conducted a review of all West Coast salmonid hatchery programs associated with the ESA-listed salmon and steelhead. Their evaluation was guided by NMFS' Policy on the Consideration of Hatchery-Origin Fish in Endangered Species Act Listing Determinations for Pacific Salmon and Steelhead (Hatchery Listing Policy) (70 FR 37204; June 28, 2005). A memorandum (Jones 2015) summarizes their evaluation of the relatedness of related hatchery stocks relative to the local natural populations to determine if the stocks warrant inclusion as part of the respective ESA listings.

Finally, we formed geographically-based teams of salmon and eulachon management biologists from our West Coast Region to evaluate information related to the five ESA section 4(a)(1) listing factors. These section 4(a)(1) factors are: (1) The present or threatened destruction, modification, or curtailment of the species' habitat or range; (2) overutilization for commercial, recreational, scientific, or educational purposes; (3) disease or predation; (4) inadequacy of existing regulatory mechanisms; or (5) other natural or man-made factors affecting the species' continued existence. These teams produced “5-Year Review Reports” that incorporate the findings of the Northwest and Southwest Fisheries Science Centers' reports, summarize new information concerning the delineation of the subject ESUs and DPSs and inclusion of closely related salmonid hatchery programs, and detail the evaluation of the ESA section 4(a)(1) listing factors. The Northwest and Southwest Fisheries Science Centers' reports, the 5-year review reports, and additional information are available on our Web site: http://www.westcoast.fisheries.noaa.gov.

Findings

After considering the best available information, we conclude that the 17 Pacific salmon ESUs, the 10 steelhead DPSs, and the southern DPS of eulachon detailed above shall remain listed as currently classified.

We also conclude that, based on the best information available, no adjustments to the species' ranges are necessary. We did conclude that the species membership of several salmonid hatchery programs will need to be revised. We will adjust the hatchery memberships through a subsequent rulemaking.

Authority: 16 U.S.C. 1531 et seq.

Dated: May 23, 2016.
Angela Somma,
Chief, Endangered Species Division, Office of Protected Resources, National Marine Fisheries Service.

[FR Doc. 2016-12454 Filed 5-25-16; 8:45 am]

BILLING CODE 3510-22-P